DEPARTMENT OF ENERGY

Federal Energy Regulatory Commission

[Docket No. RP05-298-001]

Enbridge Pipelines (KPC); Notice of Proposed Changes in FERC Gas Tariff

May 20, 2005.

Take notice that on May 18, 2005, Enbridge Pipelines (KPC) tendered for filing as part of its FERC Gas Tariff, First Revised Volume 1, the following tariff sheets to be effective June 1, 2005:

Substitute Sixth Revised Sheet No. 15

Substitute Sixth Revised Sheet No. 21

Substitute Sixth Revised Sheet No. 26

Substitute Sixth Revised Sheet No. 28

Substitute Sixth Revised Sheet No. 30

Substitute Fifth Revised Sheet No. 31A

Substitute Fifth Revised Sheet No. 31C

Enbridge KPC states that this filing is made to supplement Enbridge KPC's filing on April 29, 2005, in Docket No. RP05-298-000 to correct and clarify which Fuel Reimbursement Percentages would apply to specified time periods. Enbridge KPC states this supplemental does not make any substantive changes to the April 29, 2005 filing.

Enbridge KPC states that copies of the filing are being sent to all customers, state agencies and parties to this proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 pm Eastern Time on May 25, 2005.

Linda Mitry,
Deputy Secretary.

[FR Doc. E5-2667 Filed 5-25-05; 8:45 am]

BILLING CODE 6717-01-P